ENVIRONMENTAL PROTECTION AGENCY

[FRL-8970-2]

Request for Nominations to the Environmental Financial Advisory Board

AGENCY: Environmental Protection Agency (EPA).

ACTION: Notice.

SUMMARY: The U.S. Environmental Protection Agency (EPA) invites nominations of qualified candidates to be considered for appointments to fill vacancies on the Environmental Financial Advisory Board. Nominees should demonstrate experience in any of the following areas: Environmental economics, public utility finance and management, state revolving loan funds, environmental infrastructure financing, state/local government, Tribal representatives and non-profit environmental group, corporate finance and investment banking, public-private partnerships, bond rating and financing, commercial banking, environmental engineering, accounting and/or auditing, and financial assurance mechanisms. In addition to this notice, other sources may be utilized in the solicitation of nominees. The deadline for receiving nominations is November 10, 2009. Appointments will be made by the Deputy Administrator of the Environmental Protection Agency and will be announced during February 2010. EPA values and welcomes diversity. In an effort to obtain nominations of diverse candidates, EPA encourages nominations of women and men of all racial and ethnic groups. Nominations for membership must include a resume describing the professional and educational qualifications of the nominee as well as experience. Contact details should include full name and title, business mailing address, telephone, fax, and e-mail address. A supporting letter of endorsement is encouraged but not required.

Address/Further Information Contact: Submit nomination materials by postal mail, electronic mail or fax to: Pamela Scott, Membership Coordinator, Environmental Financial Advisory Board, EPA, Office of the Chief Financial Officer, 1200 Pennsylvania Avenue, NW., (2731R), Washington, DC 20460; or e-mail scott.pamela@epa.gov; phone 202-564-6368; or fax 202-565-2587.

SUPPLEMENTARY INFORMATION: The Environmental Financial Advisory Board was chartered in 1989 under the Federal Advisory Committee Act to provide advice and recommendations to EPA on the following issues:

• Reducing the cost of financing environmental facilities and discouraging polluting behavior;

• Creating incentives to increase private investment in the provision of environmental services and removing or reducing constraints on private involvement imposed by current regulations;

• Developing new and innovative environmental financing approaches and supporting and encouraging the use of cost-effective existing approaches;

• Identifying approaches specifically targeted to small community financing; and

• Increasing the capacity issue of state and local governments to carry out their respective Environmental programs under current Federal tax laws.

• Increasing the capacity of state and local governments to carry out their respective environmental programs under current Federal tax laws;

• Increasing the total investment in environmental protection of public and private environmental resources to help ease the environmental financing challenge facing our nations.

The Board meets two times each calendar year (two days per meeting) at different locations within the continental United States. Board members typically contribute approximately 1-3 hours per month to the Board's work. The Board membership services are voluntary as we are unable to provide honoraria or compensation. However, you may receive Travel and per diem allowances where appropriate and in accordance with Federal Travel Regulations for invitational travelers.

The following criteria will be used to evaluate nominees:

• Residence in the continental United States;

• Representing the points of view of a group, and has professional knowledge of and experience with, environmental financing activities;

• Senior level-experience that fills a gap in Board representation, or brings a new and relevant dimension to its deliberations;

• Demonstrated ability to work in a consensus-building process with a wide range of representatives from diverse constituencies; and

• Willingness to serve a two-year term as an active-contributing member, with possible re-appointment to a second term.

Dated: October 14, 2009.
Joshua Baylson,
Associate Chief Financial Officer, Office of the Chief Financial Officer.

[FR Doc. E9-25168 Filed 10-19-09; 8:45 am]

BILLING CODE 6560-50-P